DEPARTMENT OF ENERGY

Federal Energy Regulatory Commission

18 CFR Parts 35 and 37

[Docket Nos. RM05-17-000 and RM05-25-000; Order No. 890]

Preventing Undue Discrimination and Preference in Transmission Service

Issued April 6, 2007.

AGENCY: Federal Energy Regulatory Commission, DOE.

ACTION: Final Rule; Notice of Technical Conferences.

SUMMARY: On February 16, 2007, the Federal Energy Regulatory Commission issued Order No. 890, which amended the regulations and the pro forma open access transmission tariff (OATT). The Commission's staff is convening technical conferences to review and discuss the “strawman” proposals regarding the processes for transmission planning required by the Final Rule.

DATES: Conference dates:

June 4-7, 2007, Little Rock, Arkansas.

June 13, 2007, Park City, Utah.

June 28-29, 2007, Pittsburgh, Pennsylvania.

FOR FURTHER INFORMATION CONTACT: Daniel Hedberg (Technical Information), Office of Energy Markets and Reliability, Federal Energy Regulatory Commission, 888 First Street, NE., Washington, DC 20426, (202) 502-6243.

W. Mason Emnett (Legal Information), Office of the General Counsel—Energy Markets, Federal Energy Regulatory Commission, 888 First Street, NE., Washington, DC 20426, (202) 502-6540.

SUPPLEMENTARY INFORMATION:

Notice of Technical Conferences

Take notice that Commission staff will convene technical conferences on the following dates in the following cities to review and discuss the “strawman” proposals regarding processes for transmission planning required by the Final Rule issued in this proceeding on February 16, 2007.¹ Staff expects all transmission providers and/or regional representatives to participate in the technical conference for their particular region, although all interested persons, including other transmission providers, are invited to attend each conference.

¹ Preventing Undue Discrimination and Preference in Transmission Service, Order No. 890, 72 FR 12266 (March 15, 2007), FERC Stats. & Regs. ¶ 31,241 at P 443 (2007), reh'g pending.

Date | Location | Transmission provider participants
June 4-7, 2007 | Little Rock, AR | Entities located in the states represented in the Southeastern Association of Regulatory Utility Commissioners (SEARUC) and entities located in the Southwest Power Pool footprint, presenting on June 4-5 and 6-7, respectively.
June 13, 2007 | Park City, Utah | Entities located within the ColumbiaGrid and Northern Tier Transmission Group footprints and other northern WECC regions.²
June 28-29, 2007 | Pittsburgh, PA | Entities located within the Midwest ISO, PJM, New York ISO, and ISO New England footprints and adjacent areas.
TBD | TBD | Entities located in the West other than those attending the June 13, 2007 conference in Park City, Utah.²

A further notice with a detailed agenda for each conference will be issued in advance of the conferences. In the event a transmission provider is uncertain as to which technical conference is the appropriate forum for discussion of its “strawman” proposal, such transmission providers should contact Commission staff in advance to discuss the matter.

² Staff also requests that a representative of WECC's Transmission Expansion Planning Policy Committee attend these technical conferences.

For further information about these conferences, please contact:

W. Mason Emnett, Office of the General Counsel—Energy Markets, Federal Energy Regulatory Commission, 888 First Street, NE., Washington, DC 20426, (202) 502-6461, Mason.Emnett@ferc.gov.

Daniel Hedberg, Office of Energy Markets and Reliability, Federal Energy Regulatory Commission, 888 First Street, NE., Washington, DC 20426, (202) 502-6243, Daniel.Hedberg@ferc.gov.

Philis J. Posey,
Acting Secretary.

[FR Doc. E7-7085 Filed 4-13-07; 8:45 am]

BILLING CODE 6717-01-P